DEPARTMENT OF THE INTERIOR

Bureau of Land Management

[17XL1109AF LLUT925000-L14400000-BJ0000-24-1A]

Notice of Filing of Plats of Survey; Utah

AGENCY: Bureau of Land Management, Interior.

ACTION: Notice of official filing.

SUMMARY: The Bureau of Land Management (BLM) will file the plat of survey of the lands described below in the BLM Utah State Office, Salt Lake City, Utah, 30 calendar days from the date of this publication.

DATES: A person or party who wishes to protest this survey must file a written notice by August 25, 2017.

ADDRESSES: Written notices protesting this survey must be sent to the Utah State Director, Bureau of Land Management, 440 West 200 South, Suite 500, Salt Lake City, Utah 84101-1345.

FOR FURTHER INFORMATION CONTACT: Daniel W. Webb, Chief Cadastral Surveyor, Bureau of Land Management, Branch of Geographic Sciences, 440 West 200 South, Suite 500, Salt Lake City, Utah 84101-1345, telephone 801-539-4135, or dwebb@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: This survey was executed at the request of the Monument Manager for the BLM Grand Staircase-Escalante National Monument. The lands surveyed are:

Salt Lake Meridian, Utah

T. 35 S., R. 3 E., dependent resurvey of portions of the subdivisonal lines, the independent resurvey of the line between sections 4 and 9, and a corrective resurvey of the subdivision of section 9, accepted December 21, 2016, Group No. 603, Utah.

A copy of the plat and related field notes will be placed in the open files. They will be available for public review in the BLM Utah State Office as a matter of information.

A person or party who wishes to protest against the above survey must file a written notice within 30 calendar days from the date of this publication with the Utah State Director, Bureau of Land Management, at the address listed in the ADDRESSES section, stating that they wish to protest. A statement of reasons for the protest may be filed with the notice of protest. If a protest against the survey is received prior to the date of official filing, the filing will be stayed pending consideration of the protest. The plat will not be officially filed until the day after all protests have been dismissed or otherwise resolved.

Before including your address, phone number, email address, or other personal identifying information in your protest, you should be aware that your entire protest—including your personal identifying information—may be made publicly available at any time. While you can ask us to withhold your personal identifying information from public review, we cannot guarantee that we will be able to do so.

Authority: 43 U.S.C. Chap. 3.

Ed Roberson,
State Director.

[FR Doc. 2017-15618 Filed 7-25-17; 8:45 am]

BILLING CODE 4310-DQ-P